POSTAL SERVICE

39 CFR Part 111

Addressing Standards

AGENCY: Postal Service™.

ACTION: Final rule.

SUMMARY: The Postal Service is extending its effort to improve the delivery point validation and address standardization of mail receiving postage discounts by amending the Mailing Standards of the United States Postal Service, Domestic Mail Manual (DMM®) in various sections of 602, Addressing, to update addressing standards.

DATES: Effective Date: October 1, 2022.

FOR FURTHER INFORMATION CONTACT: James Wilson at (901) 681-4600, Kai Fisher at (901) 681-4634, or Garry Rodriguez at (202) 268-7281.

SUPPLEMENTARY INFORMATION: On February 22, 2021, the Postal Service published a revised notice of proposed rulemaking (86 FR 10507-10509) to update addressing standards. In response to the revised proposed rule, the mailing industry provided many valuable comments.

Eleven formal responses were received. Several expressed concern that the change would create cost increases for lower volume mailers that currently process their lists quarterly and would be required to process more frequently, increasing the cost paid to mail service providers that offer the address matching services. Other comments questioned the 60-day requirement from address matching to the mailing date with a product release that is still valid for use beyond that time frame. This final rule will clearly outline the ways in which the addressing standard rules have changed.

Currently, DMM section 602.6.0, ZIP Code Accuracy Standards, provides that a ZIP Code™ may be used on a mail piece within 12 months after having been verified using a Postal Service approved method. Once a ZIP Code is used on a mailpiece, the address associated with that ZIP Code is considered to meet Postal Service addressing standards for an additional 12 months from the date first used in the mail.

DMM sections 602.7.0, Carrier Route Accuracy Standard, and 9.0, Coding Accuracy Support System (CASS), provide that Address Matching and Coding Update standards require coding to be performed within 90 days before the mailing date for carrier route mailings and 180 days for all non-carrier route mailings using the most current USPS database. The current product release schedule allows for use of a database that is valid for 105 days and may be used in generating discounted mailings for an additional 6 months beyond that timeframe. As such, an address added or modified in the database may not be updated on a mailing list for nearly 1 year after the change was made.

In 2012, the Postal Service implemented address management product fulfillment via an electronic product fulfillment method designed to provide subscription products to customers more efficiently. The database product updates are posted each month to a secure site where customers can log in to simply download the product files. A survey of licensed Address Management data products indicates that CASS and Multiline Accuracy Support System (MASS) Certified software and service providers are retrieving and using the monthly updates during the address matching and coding processes.

The Postal Service is implementing a database product cycle that aligns with the release of other mailing products. This will provide consistency across all mailing products and the method by which the data files are available and distributed. The USPS will now require the use of monthly updates for both carrier route and non-carrier route mailings and reduces the risk of using data that is no longer current.

The updated release schedule allows for 120 days of use for generating discounted mailings and an overlap in dates for product use. Mailers that currently process their lists quarterly would still be compliant as long as they do not mail beyond the “last permissible mailing date” for the “product date” as shown in the USPS Product Cycle in Exhibit 9.3.1. Mailers will be expected to update their systems with the latest data files as soon as practicable and should not wait until the “last permissible use” date.

The Postal Service is implementing this change effective October 1, 2022. This implementation date allows mailers eighteen months to adjust to the new update standards, however, mailers may opt to use the new monthly update cycles for both carrier route and non-carrier route mailings immediately.

We believe this revision will provide customers with a more efficient process and will reduce the risk of using address information that is not current.

List of Subjects in 39 CFR Part 111

Administrative practice and procedure, Postal Service.

The Postal Service adopts the following changes to Mailing Standards of the United States Postal Service, Domestic Mail Manual (DMM), incorporated by reference in the Code of Federal Regulations. See 39 CFR 111.1.

We will publish an appropriate amendment to 39 CFR part 111 to reflect these changes.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

602 Addressing

* * * * *

6.0 ZIP Code Accuracy Standards

6.1 Basic Standards

Except for mail bearing a simplified address, addresses used on pieces in a mailing at all commercial First-Class Mail, nonbarcoded presorted Periodicals, USPS Marketing Mail, Parcel Select Lightweight, and Bound Printed Matter presorted and carrier route prices are subject to the ZIP Code accuracy standard and must meet these requirements:

[Revise the text of items a and b to read as follows:]

a. Each address and associated 5-digit ZIP Code on the mailpieces in a mailing must be verified and corrected within 6 months before the mailing date with one of the USPS-approved methods in 6.2.

b. If an address used on a mailpiece in a mailing at one class of mail and price is verified and corrected with an approved method, the same address may be used during the following 6 months to meet the ZIP Code accuracy standard required for mailing at any other class of mail and price.

6.2 USPS-Approved Methods

The following methods meet the ZIP Code accuracy standard:

* * * * *

b. For manually maintained lists or small computerized lists, options include the following:

[Delete item b1 and renumber items b2 through b5 as items b1 through b4.]

* * * * *

7.0 Carrier Route Accuracy Standard

7.1 Basic Standards

* * * Addresses used on pieces claiming any Periodicals carrier route prices, any USPS Marketing Mail Enhanced Carrier Route prices (including DALs or DMLs used with Product Samples), or any Bound Printed Matter carrier route prices are subject to the carrier route accuracy standard and must meet the following requirements:

[Revise the text of item a to read as follows:]

a. Each address and associated carrier route code used on the mailpieces (or DALs or DMLs) in a mailing must be updated with one of the USPS-approved methods in 6.2 using a product release that is within the USPS Product Cycle as provided in Exhibit 9.3.1.

* * * * *

[Delete item c.]

* * * * *

9.0 Coding Accuracy Support System (CASS)

* * * * *

9.3 Date of Address Matching and Coding

9.3.1 Update Standards

[Revise the text of 9.3.1 to read as follows:]

Unless Z4CHANGE is used, all automation and carrier route mailings bearing addresses coded by any AIS product must be coded with current CASS-certified software and the current USPS database. Coding must be done using a product release that is within the USPS Product Cycle as provided in Exhibit 9.3.1. All AIS products may be used immediately on release. New product releases must be included in address matching systems no later than after the first of the month following the product date. The overlap in dates for product use allows mailers adequate time to install the new data files and test their systems. Mailers are expected to update their systems with the latest data files as soon as practicable and need not wait until the “last permissible use” date. The mailer's signature on the postage statement certifies that this standard has been met when the corresponding mail is presented to the USPS. The “current USPS database” product cycle is defined by the table in Exhibit 9.3.1.

[Delete current table under 9.3.1 and add new table as Exhibit 9.3.1 to read as follows:]

Exhibit 9.3.1—USPS Database Product Cycle
Release date (posted): Use of file released in * * * | Product date: (Publish date) | Expiration date (last permissible use date): And must end no later than * * * | Last permissible mailing date
Mid-November | December 1 | February 28/29 | March 31.
Mid-December | January 1 | March 31 | April 30.
Mid-January | February 1 | April 30 | May 31.
Mid-February | March 1 | May 31 | June 30.
Mid-March | April 1 | June 30 | July 31.
Mid-April | May 1 | July 31 | August 31.
Mid-May | June 1 | August 31 | September 30.
Mid-June | July 1 | September 30 | October 31.
Mid-July | August 1 | October 31 | November 30.
Mid-August | September 1 | November 30 | December 31.
Mid-September | October 1 | December 31 | January 31.
Mid-October | November 1 | January 31 | February 28/29.

* * * * *

9.5 Documentation

* * * * *

9.5.5 Using a Single List

[Revise the text of 9.5.5 by deleting the last sentence.]

* * * * *

Ruth B. Stevenson,
Attorney, Federal Compliance.

[FR Doc. 2021-14319 Filed 7-6-21; 8:45 am]

BILLING CODE P